DEPARTMENT OF JUSTICE

Drug Enforcement Administration

21 CFR Part 1301

[Docket No. DEA-232C]

RIN 1117-AA70

Controlled Substances Registration and Reregistration Application Fees

AGENCY: Drug Enforcement Administration (DEA), Department of Justice.

ACTION: Final rule correction.

SUMMARY: This document corrects an error included in DEA's Final Rule published in the Federal Register on October 10, 2003 (68 FR 58587). This Final Rule related to the fees to be charged controlled substances registrants. This correction will not adjust the fees collected to support the Diversion Control Program.

EFFECTIVE DATE: June 22, 2004.

FOR FURTHER INFORMATION CONTACT: Patricia M. Good, Chief, Liaison and Policy Section, Office of Diversion Control, Drug Enforcement Administration, Washington, DC 20537; Telephone (202) 307-7297.

SUPPLEMENTARY INFORMATION:

Background

On October 10, 2003, the Drug Enforcement Administration (DEA) published a Final Rule in the Federal Register adjusting its controlled substances registration and reregistration fees pursuant to the Controlled Substances Act (21 U.S.C. 821, 886a). In that Final Rule, DEA indicated that Firebird, DEA's information system, was funded through appropriated funds, not through the Drug Diversion Control Fee Account (DDCFA) (68 FR 58591-58592, October 10, 2003).

Need for Correction

As published, the Final Rule contains an error which may prove to be misleading and is in need of clarification. In DEA's Fiscal Year 2004 budget, costs attributable to DEA's ADP System (Firebird) were included in the DCFA cost module. Because the Firebird information system is directly used by Diversion personnel to register controlled substances handlers, establish quotas, and conduct regulatory audits and investigations, funding of this system is attributable to the DDCFA rather than appropriated funds. Since Firebird is now funded as part of expenses within the Diversion Control Program, DEA should not have included Firebird in its discussion of costs that are excluded from DDCFA funding.

As costs associated with the Firebird information system were included in the budget calculations used to establish the registration and reregistration fees for Fiscal Years 2004, 2005, and 2006, as finalized in DEA's October 10, 2003 Final Rule (68 FR 58587), it is not necessary for DEA to increase the fees charged to registrants to cover the costs of the Firebird information system.

Correction of Publication

Accordingly, the Final Rule published October 10, 2003 is corrected as follows:

1. On page 58592, first column, lines 1 through 4, by striking the phrase “; and a portion of the budget for DEA's agency-wide computer network, ‘Firebird’, related to the work of the DCP”.

Dated: June 2, 2004.
William J. Walker,
Deputy Assistant Administrator, Office of Diversion Control.

[FR Doc. 04-14100 Filed 6-21-04; 8:45 am]

BILLING CODE 4410-09-P